DEPARTMENT OF VETERANS AFFAIRS

[OMB Control No. 2900-New (EHSRDV)]

Agency Information Collection Activities Under OMB Review

AGENCY: Office of Policy, Planning and Preparedness, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information abstracted below to the Office of Management and Budget (OMB) for review and comment. The PRA submission describes the nature of the information collection and its expected cost and burden; it includes the actual data collection instrument.

DATES: Comments must be submitted on or before August 14, 2006.

For Further Information or a Copy of the Submission Contact: Denise McLamb, Records Management Service (005G2), Department of Veterans Affairs, 810 Vermont Avenue, NW., Washington, DC 20420, (202) 565-8374 or Fax (202) 565-7045 or e-mail: denise.mclamb@va.gov. Please refer to “2900-New (EHSRDV).”

SUPPLEMENTARY INFORMATION: Title: Employment Histories Survey of Recently Discharged Veterans.

OMB Control Number: 2900-New (EHSRDV).

Type of Review: New collection.

Abstract: VA will use the data collected to better understand the employment experiences and opportunities of recently discharged veterans in the job market.

An agency may not conduct or sponsor, and a person is not required to respond to a collection of information unless it displays a currently valid OMB control number. The Federal Register Notice with a 60-day comment period soliciting comments on this collection of information was published on April 20, 2006, at page 20437.

Affected Public: Individuals and households.

Estimated Annual Burden: 647 hours.

Estimated Annual Burden per Respondent: 20 minutes.

Frequency of Response: Biennially.

Estimated Number of Respondents: 1,940.

Dated: June 28, 2006.
By direction of the Acting Secretary.
Denise McLamb,
Program Analyst, Records Management Service.

[FR Doc. E6-10967 Filed 7-12-06; 8:45 am]

BILLING CODE 8320-01-P